DEPARTMENT OF HEALTH AND HUMAN SERVICES

Centers for Disease Control and Prevention

[30Day-25-23FN]

Agency Forms Undergoing Paperwork Reduction Act Review

In accordance with the Paperwork Reduction Act of 1995, the Centers for Disease Control and Prevention (CDC) has submitted the information collection request titled “Menthol-Flavored Tobacco Product Policy Evaluation” to the Office of Management and Budget (OMB) for review and approval. CDC previously published a “Proposed Data Collection Submitted for Public Comment and Recommendations” notice on September 3, 2024 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Menthol-Flavored Tobacco Product Policy Evaluation—New—National Center for Chronic Disease Prevention and Health Promotion (NCCDPHP), Centers for Disease Control and Prevention (CDC).

Background and Brief Description

The Centers for Disease Control and Prevention (CDC) is submitting this New information collection request (ICR) for an evaluation of local policies restricting the sale of menthol-flavored tobacco products (hereafter known as menthol tobacco products). This evaluation will assess the differences in outcomes of interest between cities with policies restricting the sale of menthol tobacco products and cities without these policies. Outcomes of interest include commercial tobacco product use and related behavior, perceived access to menthol tobacco products, and menthol tobacco product-related beliefs and perceptions. This study focuses on the general population and groups who use commercial menthol tobacco products at higher rates including people who identify as lesbian, gay, bisexual, transgender, queer, or another sexual or gender minority (LGBTQ+) and racial and ethnic minority groups (persons identifying as American Indian or Alaska Native, Asian, Black or African American, Native Hawaiian or Other Pacific Islander, Hispanic or Latino, or biracial). Understanding how policies restricting the sale of menthol tobacco products impact tobacco use, behavior, and attitudes may help to inform public health activities and decisions regarding tobacco control. Although local tobacco policies have been shown to be effective at limiting the availability of policy-restricted products, no study to date has collected this type of web panel and focus group data among disparately affected population groups across jurisdictions after policy implementation. There are no other evaluation data collection efforts conducted on this topic to date, nor does the information to be collected exist in any existing centralized data source. While some questions in the web panel survey were sourced from pre-existing validated survey questions, each data collection tool proposed within this package has been designed to understand the effect of local menthol tobacco sales restriction policies on both the general population and those disproportionately impacted by menthol tobacco product use.

CDC is requesting OMB approval for three years. The total estimated annualized burden is 1,750 hours. There are no costs to respondents other than their time to participate.

Estimated Annualized Burden Hours
Type of respondents | Form name | Number of respondents | Number of responses per respondent | Average burden per response (in hours)
Adults in the general population who currently use or formerly used tobacco living in the cities of interest | Survey Screener Questionnaire | 9,800 | 1 | 2/60
Adults in the general population who currently use or formerly used tobacco living in the cities of interest | Community Web-Panel Survey | 5,366 | 1 | 15/60
Adults in the general population who currently use or formerly used menthol tobacco living in the intervention cities of interest. Racial and ethnic minority adults and LGBTQ+ adults meeting the above criteria identified from the Qualtrics panel | Focus Group Screener Questionnaire | 200 | 1 | 2/60
Adults in the general population who currently use or formerly used menthol tobacco living in the intervention cities of interest. Racial and ethnic minority adults and LGBTQ+ adults meeting the above criteria identified from the Qualtrics panel | Community Focus Group | 75 | 1 | 1

Jeffrey M. Zirger,
Lead, Information Collection Review Office, Office of Public Health Ethics and Regulations, Office of Science, Centers for Disease Control and Prevention.

[FR Doc. 2024-28689 Filed 12-5-24; 8:45 am]

BILLING CODE 4163-18-P